DEPARTMENT OF AGRICULTURE

Submission for OMB Review; Comment Request

January 19, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Brokerage Agreement for the Transportation of USDA Commodities.

OMB Control Number: 0560-0224.

Summary of Collection: 49 U.S.C. 13102(2), 13712, and 49 CFR chapter 10, part 1090-1099, authorizes the Export Operations Division (EOD) to collect information to determine Broker compliance with KCCO requirements and to determine the eligibility of Brokers to haul agricultural products for the United States Department of Agriculture (USDA). Brokers must complete the Brokerage Agreement for the transportation of USDA commodities. The Brokerage Agreement is used to establish the transportation service needs of the USDA, Farm Service Agency (FSA), Kansas City Commodity Office (KCCO), operating as Commodity Credit Corporation (CCC), for the brokered movement of its freight.

Need and Use of the Information: FSA will collect information to ensure that the applicant has both the willingness and the capability to meet the needs of KCCO and to establish the rules for which the broker can expect compensation. Without the information, KCCO could not meet program requirements.

Description of Respondents: Business or other for-profit; Not-for-profit institutions; Federal Government; State, local or tribal government.

Number of Respondents: 47.

Frequency of Responses: Reporting: Other (Once).

Total Burden Hours: 47.

Ruth Brown,
Departmental Information Collection Clearance Officer.

[FR Doc. E6-860 Filed 1-24-06; 8:45 am]

BILLING CODE 3410-05-P